DEPARTMENT OF LABOR

Employment and Training Administration

[TA-W-81,827]

Verizon Business Networks Services, Inc., Senior Analyst, Service Program Delivery (SA-SPD), Including Workers Whose Wages Were Paid Under MCI Communication Services, Inc., Hilliard, OH; Amended Certification Regarding Eligibility To Apply for Worker Adjustment Assistance

In accordance with Section 223 of the Trade Act of 1974, as amended (“Act”), 19 U.S.C. 2273, the Department of Labor issued a Certification of Eligibility to Apply for Worker Adjustment Assistance on September 18, 2012, applicable to workers and former workers of Verizon Business Network Services, Inc., Senior Analyst-Service Program Delivery, Hilliard, Ohio (subject firm). Workers at the subject firm are engaged in activities related to telecommunications services. Specifically, the worker group supplies service program delivery services.

At the request of the State of Ohio, the Department reviewed the certification for workers of the subject firm. New information provided by company officials show that some workers of the subject firm had wages paid under the name MCI Communication Services, Inc.

The intent of the Department's certification is to include all workers of the subject firm who were adversely affected by a shift in the supply of services to a foreign country.

The amended notice applicable to TA-W-81,827 is hereby issued as follows:

All workers of Verizon Business Network Services, Inc., Senior Analyst-Service Program Delivery (SA-SPD), including workers whose wages were paid under MCI Communication Services, Inc., Hilliard, Ohio (TA-W-81,827), who became totally or partially separated from employment on or after July 20, 2011 through September 18, 2014, and all workers in the group threatened with total or partial separation from employment on September 18, 2012 through September 18, 2014, are eligible to apply for adjustment assistance under Chapter 2 of Title II of the Trade Act of 1974, as amended.

Signed in Washington, DC, this 17th day of October 2012.
Del Min Amy Chen,
Certifying Officer, Office of Trade Adjustment Assistance.

[FR Doc. 2012-26491 Filed 10-26-12; 8:45 am]

BILLING CODE 4510-FN-P